DEPARTMENT OF HEALTH AND HUMAN SERVICES

Centers for Disease Control and Prevention

Reorganization of the National Center for Immunization and Respiratory Diseases

AGENCY: Centers for Disease Control and Prevention (CDC), the Department of Health and Human Services (HHS).

ACTION: Notice.

SUMMARY: CDC has modified its structure. This notice announces the reorganization of the National Center for Immunization and Respiratory Diseases (NCIRD). NCIRD has abolished offices, retitled divisions and branches, and modified mission and function statements.

DATES: This reorganization of NCIRD was approved by the Director of CDC on July 17, 2024 and became effective on July 17, 2024.

FOR FURTHER INFORMATION CONTACT: Rebecca Greco Kone, Centers for Disease Control and Prevention, 1600 Clifton Road NE, MS H24-9, Atlanta, GA 30329; Telephone 800-232-4636; Email: pmoncird@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 89 FR 56753, dated July 10, 2024) is amended to reflect the reorganization of National Center for Immunization and Respiratory Diseases, Centers for Disease Control and Prevention. Specifically, the changes are as follows:

I. Under Part C, Section C-B, Organization and Functions, make the following changes:

• Update the Office of the Director (CJ1) mission/function statements

• Abolish the Office of Informatics (CJ12)

• Abolish the Office of Policy (CJ13)

• Abolish the Office of Health Communications Science (CJ14)

• Abolish the Office of Management and Operations (CJ15)

• Abolish the Office of Science (CJ16)

• Abolish the Office of Global Health, Preparedness, and Response (CJ17)

• Update the Division of Bacterial Diseases (CJE) mission/function statements

• Retitle and update the mission/function statement for the Respiratory Disease Branch to the Pneumonia and Streptococcus Epidemiology Branch (CJEB)

• Retitle and update the mission/function statement for the Meningitis and Vaccine Preventable Disease Branch to the Meningitis, Pertussis, and Diphtheria Epidemiology Branch (CJEC)

• Establish the Pneumonia and Streptococcus Laboratory Branch (CJED)

• Establish the Meningitis, Pertussis, and Diphtheria Laboratory Branch (CJEE)

II. Under Part C, Section C-B, Organization and Functions, within the National Center for Immunization and Respiratory Diseases, delete the mission or function statements for and replace with the following:

Office of the Director (CJ1). (1) provides leadership, expertise, and service in laboratory and epidemiological sciences for respiratory and vaccine-preventable diseases and in immunization program delivery; (2) provides diagnostic and reference laboratory services to relevant partnerships; (3) works with agency and other CIOs to ensure spending plans, budget planning, and budget execution are in line with the overall infectious disease strategies and priorities; (4) ensures that NCIRD's strategy is executed by the divisions and aligned with overall CDC goals, including leadership for and guidance for strategic planning and performance measurement; (5) co-develops execution strategies for NCIRD with the division directors;

(6) provides program and science quality oversight; (7) builds leadership at the division and branch levels; (8) evaluates the strategies, focus, and prioritization of the division research, program, and budget activities; (9) identifies and coordinates synergies between NCIRD and relevant partners; (10) ensures that policy development is consistent and appropriate; (11) facilitates research and program activities by providing leadership support; (12) proposes resource priorities throughout the budget cycle; (13) ensures scientific quality, ethics, and regulatory compliance; (14) fosters an integrated approach to research, program, and policy activities; (15) liaises with HHS and other domestic and international immunization and respiratory disease partners, as well as with NCIRD divisions; (16) coordinates center's emergency response activities related to immunization issues and complex acute respiratory infectious disease emergencies; (17) applies communication science, media principles, and web design to support NCIRD and CDC's efforts to reduce morbidity and mortality caused by vaccine-preventable and respiratory diseases; ensuring that communication distributed by the center is timely, accurate, clear and relevant to intended audiences; (18) provides guidance for key scientific and laboratory services in the functional areas of extramural research (research and non-research), human studies oversight and review, regulatory affairs; activities in the areas of space planning, advising, coordination and evaluation, safety management and coordination, and shared services in controlled correspondence, and programmatic services in the area of workforce and career development; (19) provides and coordinates center-wide administrative, management, and support services in the areas of fiscal management, personnel, travel, procurement, facility management, and other administrative services; (20) manages the coordination of workforce development and succession planning activities, and provides human capital management, planning, and training consultation services; (21) develops and implements a coordinated healthcare provider strategy across NCIRD programs that maximizes public health outcomes; (22) directs the cultivation of clinical partnerships aimed at enhancing the reach and effectiveness of NCIRD programs; (23) leads the coordination and guidance of Advisory Committee on Immunization Practices (ACIP) related work; (24) designs and operationalize s cross-cutting public health strategies that improve outcomes for high risk groups; (25) provides advice to NCIRD leadership in developing policies, programs, implementation guidance, and strategic initiatives; (26) works with NCIRD programs, other CIOs, and agency to ensure NCIRD programs and priorities are incorporated into priority initiatives; (27) monitors and evaluates effectiveness of strategic plans and priorities, including linkages of resources to priorities and identification of public health outcomes to track effectiveness; (28) provides strategic guidance and direction, technical assistance and support for NCIRD's health equity portfolio; (29) tracks progress towards advancing health equity in the areas of science, intervention, and partnerships as aligned with CDC's CORE Health Equity framework; (30) advises NCIRD and CDC leadership on global health related to current and known respiratory threats and to emerging respiratory pandemic threats; (31) provides strategic leadership for NCIRD in the areas of global health related to respiratory and vaccine-preventable diseases, including establishing NCIRD priorities, promoting science, policies, and new programs; (32) coordinates NCIRD efforts related to funding and budgets for global health security; and (33) supports NCIRD's work across CDC and the federal government on global health security, respiratory diseases.

Division of Bacterial Diseases (CJE). The mission of the Division of Bacterial Diseases (DBD) is to prevent and control illness and death from vaccine-preventable and other respiratory bacterial diseases, in the United States and worldwide, through leadership in epidemiologic and laboratory science and vaccine policy. DBD's cross-cutting functions include laboratory science, epidemiologic science, vaccine science, and partner support. (1) Provides laboratory support for surveillance and epidemiologic studies and reference diagnostic services to state, tribal, local, and territorial health departments, other federal agencies, and national and international health organizations; (2) develops, analyzes, and improves diagnostic methods and reagents; (3) facilitates development and evaluation of immunologic compounds, and vaccines; (4) conducts laboratory studies of the biological, biochemical, genetic, and antigenic characteristics, immunology, and pathogenesis of disease; (5) participates in and supports investigations of outbreaks, clusters, epidemics, and other public health problems in the United States and internationally, and recommends and evaluates appropriate control measures; (6) conducts surveillance for bacteria under the division's purview, including surveillance for antimicrobial resistance; assists state, tribal, local, and territorial health departments with conducting surveillance; prepares and distributes surveillance information; (7) conducts epidemiologic studies to define etiology, patterns of disease, disease burden, and risk factors; (8) provides consultation on the use of bacterial vaccines and other measures to prevent infections; identifies and evaluates other (non-vaccine) prevention strategies; and evaluates other aspects of vaccination practices; (9) determines the effectiveness and cost effectiveness of vaccines through the evaluation of scientific evidence; (10) supports the development and evaluation of vaccination policy and programs, and helps prepare statements on bacterial vaccines for ACIP and other groups in the United States; (11) provides guidance and technical expertise on vaccine-preventable disease policy development in international settings; (12) supports CDC's Immunization Safety Office in vaccine safety risk assessment and leadership in vaccine safety risk management; (13) advises the World Health Organization (WHO) on global vaccine policies and strategies via the Strategic Advisory Group of Experts on Immunization; (14) provides technical support to state immunization programs for all aspects of vaccine-preventable diseases and their vaccines; (15) assists internal and external partners with other public health problems of national and international significance when needed; and (16) provides assistance with professional training for both internal and external partners.

Office of the Director (CJE1). (1) directs, coordinates, and manages the programs and activities of the division; (2) provides leadership and guidance on scientific strategy, policy, communications, partnerships, program planning and development, program management, and operations; (3) coordinates or assures coordination with the appropriate CDC and NCIRD offices on administrative and program matters; (4) reviews, prepares, and coordinates congressional testimony and briefing documents related to bacterial respiratory and vaccine-preventable diseases, and analyzes programmatic and policy implications of legislative proposals; (5) serves as CDC and NCIRD's primary internal and external communications contact regarding bacterial respiratory and vaccine-preventable disease issues; (6) advises CDC and NCIRD on policy and communications matters concerning the division's programs and activities; (7) assures the overall quality and integrity of the science conducted by the division; (8) coordinates division activities on cross-cutting agency initiatives; (9) guides and coordinates with division laboratory branches to implement quality management systems and maintain safety; (10) guides and facilitates efficient coordination and cooperation for administrative, programmatic, and scientific activities within the division, and with other groups in and outside of CDC; (11) provides statistical consultation for epidemiologic and laboratory research studies conducted by the division, including developing new methods for statistical applications; and (12) provides overall leadership, guidance, support, and coordination for the division's global health activities.

Pneumonia and Streptococcus Epidemiology Branch (CJEB). (1) provides epidemiologic subject matter expertise and technical assistance for surveillance, prevention and control of respiratory and other syndromes caused by Streptococcus pneumoniae, group A and group B streptococci, and atypical respiratory bacteria (Legionella, Mycoplasma, and Chlamydia species), including outbreaks and antimicrobial-resistant infections, as well as community-acquired pneumonia, otitis media, and neonatal sepsis; (2) conducts surveillance and epidemiologic research for these diseases; (3) develops, implements, and evaluates prevention methods for these diseases, including vaccine and non-vaccine strategies; (4) supports development of vaccine policy through the ACIP process; (5) provides consultation and support to domestic and international partners on the use of vaccines and other prevention measures for bacterial respiratory diseases; (6) coordinates activities within and outside the division related to Active Bacterial Core surveillance with the Emerging Infections Program sites, and leverages other surveillance platforms that include bacterial respiratory diseases; and (7) collaborates with other CDC groups, other federal agencies, state, tribal, local, and territorial groups, ministries of health, WHO, private industry, academia, and other governmental and non-governmental organizations involved in public health.

Meningitis, Pertussis, and Diphtheria Epidemiology Branch (CJEC). (1) provides laboratory subject matter expertise and technical assistance for surveillance, prevention, and control of bacterial illness, including meningococcal disease, Haemophilus influenzae disease, diphtheria, pertussis, tetanus, and bacterial meningitis syndrome; (2) provides reference and diagnostic testing support for agents causing these diseases; (3) develops and evaluates new diagnostic methods for these bacterial pathogens; (4) develops, maintains, and implements genomic analyses of bacteria to enhance surveillance programs, outbreak investigations, and public health research; (5) provides leadership and expertise for the study of immunologic response to infection, vaccination, and therapeutic interventions against bacterial respiratory diseases; (6) ensures that the laboratory quality management system functions according to CDC policy and other regulatory requirements, e.g., Clinical Laboratory Improvement Amendments (CLIA); maintains laboratory safety practices and provides guidance to ensure a safe work environment; (7) collaborates with other CDC groups; other federal agencies; state, tribal, local, and territorial groups; ministries of health; WHO; private industry; academia; and other governmental and non-governmental organizations involved in public health; and (8) maintains World Health Organization Collaborating Center for Control and Prevention of Epidemic Meningitis.

Pneumonia and Streptococcus Laboratory Branch (CJED). (1) provides laboratory subject matter expertise and technical assistance for surveillance, prevention, and control of respiratory and other syndromes caused by Streptococcus pneumoniae, group A and group B streptococci, and atypical respiratory bacteria (Legionella, Mycoplasma, and Chlamydia species), including outbreaks and antimicrobial-resistant infections, as well as community-acquired pneumonia, otitis media, and neonatal sepsis; (2) provides reference and diagnostic testing support for bacterial respiratory diseases and for the identification of unknown gram-positive cocci; (3) develops and evaluates new diagnostic methods for bacterial respiratory pathogens; (4) develops, maintains, and implements genomic analyses of bacteria to enhance surveillance programs, outbreak investigations, and public health research; (5) maintains the World Health Organization Collaborating Center for Streptococcal Infections; (6) ensures that the laboratory quality management system functions according to CDC policy and other regulatory requirements, e.g., CLIA; maintains laboratory safety practices and provides guidance to ensure a safe work environment; and (7) collaborates with other CDC groups; other federal agencies; state, tribal, local, and territorial groups; ministries of health; WHO; private industry; academia; and other governmental and non-governmental organizations involved in public health.

Meningitis, Pertussis, and Diphtheria Laboratory Branch (CJEE). (1) provides laboratory subject matter expertise and technical assistance for surveillance, prevention, and control of bacterial illness, including meningococcal disease, Haemophilus influenzae disease, diphtheria, pertussis, tetanus, and bacterial meningitis syndrome; (2) provides reference and diagnostic testing support for agents causing these diseases; (3) develops and evaluates new diagnostic methods for these bacterial pathogens; (4) develops, maintains, and implements genomic analyses of bacteria to enhance surveillance programs, outbreak investigations, and public health research; (5) provides leadership and expertise for the study of immunologic response to infection, vaccination, and therapeutic interventions against bacterial respiratory diseases; (6) ensures that the laboratory quality management system functions according to CDC policy and other regulatory requirements, e.g. CLIA; maintains laboratory safety practices and provides guidance to ensure a safe work environment; (7) collaborates with other CDC groups; other federal agencies; state, tribal, local, and territorial groups, ministries of health, WHO, private industry, academia, and other governmental and non-governmental organizations involved in public health; and (8) maintains World Health Organization Collaborating Center for Control and Prevention of Epidemic Meningitis.

Delegations of Authority

All delegations and redelegations of authority made to officials and employees of affected organizational components will continue in them or their successors pending further redelegation, provided they are consistent with this reorganization.

(Authority: 44 U.S.C. 3101)

Robin D. Bailey,
Chief Operating Officer, Centers for Disease Control and Prevention.

[FR Doc. 2024-16027 Filed 7-19-24; 8:45 am]

BILLING CODE 4163-18-P